DEPARTMENT OF THE INTERIOR

Fish and Wildlife Service

Endangered Wildlife and Plants; Candidate Conservation Agreement and Best Available Information for Slickspot Peppergrass (Lepidium papilliferum)

AGENCY: Fish and Wildlife Service, Interior.

ACTION: Notice of document availability for review and public comment.

SUMMARY: We, the U.S. Fish and Wildlife Service (Service), have received the “Candidate Conservation Agreement for the Slickspot Peppergrass (Lepidium papilliferum)” (CCA), a document authored by representatives from the Idaho Governor's Office of Species Conservation, the Idaho Department of Agriculture, the Idaho Department of Fish and Game, the Idaho Department of Lands, the Idaho Army National Guard, the Bureau of Land Management (BLM), and several private property owners who hold grazing permits on BLM-managed and maintained lands, collectively referred to as Cooperating Parties. The CCA commits the Cooperating Parties to implementing conservation measures to prevent and minimize threats to L. papilliferum. We are seeking public comment on the CCA because the Service will be making a determination by January 15, 2004, on whether or not it will list L. papilliferum under the Endangered Species Act (Act) and must consider in its listing determinations all pertinent biology, threats, and conservation agreements for the species. We also seek public comment on a document compiled by the Service, “Best Available Information on Lepidium papilliferum” (Available Information), because we will be considering information in this document in making a final listing determination for the species.

DATES: We will accept comments and information pertaining to the CCA and the Available Information through November 14, 2003. Comments must be received by 5 p.m. on the closing date. Any comments that are received after the closing date may not be considered. No extensions to the public comment will be granted due to the short time frame for publication of the final listing determination by January 15, 2004.

ADDRESSES: Comments should be addressed to Jeff Foss, Field Supervisor, Snake River Fish and Wildlife Office, 1387 South Vinnell Way, Room 368, Boise, ID 83709; facsimile number (208) 378-5262; electronic address fw1srbocomment@fws.gov. Please put “LEPA” in the subject line of all comments. See SUPPLEMENTARY INFORMATION, Public Review and Comments.

FOR FURTHER INFORMATION CONTACT: Jeff Foss, Field Supervisor, at the above address or by calling (208) 378-5243.

SUPPLEMENTARY INFORMATION: Public Review and Comments

Comments are solicited on both the CCA and the Available Information for Lepidium papilliferum. Individuals wishing copies of either or both of the these documents should contact the office and personnel listed in the ADDRESSES section or locate these documents online at http://idahoes.fws.gov. Documents also will be available for public inspection, by appointment, during normal business hours at the Snake River Fish and Wildlife Office (see ADDRESSES).

All comments received, including names and addresses, will become part of the Service's administrative record and may be released to the public. If you wish us to withhold your name and/or address, you must state this prominently at the beginning of your comment. All submissions from organizations or businesses, and from individuals identifying themselves as representatives or officials of organizations or businesses, are available for public inspection in their entirety.

Background

On July 15, 2002, the Service published a proposed rule (64 FR 46441) to list Lepidium papilliferum as endangered under the Act. A final listing decision was due by July 15, 2003. Comments were solicited from both the public and 12 independent scientists in an initial 60-day public comment period that opened on July 18, 2002, and closed on September 13, 2002. On September 25, 2002, we reopened the comment period for an additional 60 days to allow time for all interested parties to submit written comments on the proposal (67 FR 60206). The second comment period closed on November 25, 2002. On July 18, 2003, due to substantial disagreement regarding the sufficiency or accuracy of the available data relevant to the prosed listing rule, we announced a 6-month extension of the deadline for our final determination on whether to list L. papilliferum. An additional 30-day public comment period was opened on July 18, 2003, and closed on August 18, 2003. A final listing determination is due by January 15, 2004. The extended time is being used to update the best available information on L. papilliferum, using information from our files, information received during the two 60-day comment periods, and information received during the 30-day comment period associated with the extension.

An additional intent of the extension was to explore the possibility of a candidate conservation agreement for Lepidium papilliferum with cooperators from Idaho. Subsequently, the CCA was developed by the Cooperating Parties with technical assistance from the Service on policy and science. Its purpose is to implement conservation measures for L. papilliferum that will ensure the conservation of the plant and its habitat while maintaining predictable and sustainable levels of use for current and future activities on the lands. It is also meant to provide a means of protecting and conserving the species and its habitat through the mutual and voluntary commitment of the Cooperating Parties. The CCA was developed using criteria laid out in the final Policy for the Evaluation of Conservation Effort, of June 13, 2003 (68 FR 37102). This policy applies to our evaluation of all formalized conservation efforts when making listing decision for species not listed. It identifies criteria the Service will use to evaluate the certainty of implementation and effectiveness of such formalized conservation efforts that have not yet been implemented or have been recently implemented and have not yet demonstrated effectiveness at the time of a listing decision. Comments received on the CCA will be used by the Service as it considers the CCA in its final listing determination for L. papilliferum. The comments will also be made available to the Cooperating Parties of the CCA.

Dated: October 22, 2003.
David B. Allen,
Regional Director, Fish and Wildlife Service.

[FR Doc. 03-27319 Filed 10-29-03; 8:45 am]

BILLING CODE 4310-55-P